COMMISSION ON CIVIL RIGHTS

Notice of Public Meeting of the South Dakota Advisory Committee; Cancellation

AGENCY: Commission on Civil Rights

ACTION: Notice; cancellation of meeting

SUMMARY: The Commission on Civil Rights published a notice in the Federal Register concerning a meeting of the South Dakota Advisory Committee. The meeting scheduled for Monday, July 22, 2019 at 12:00 p.m. (MDT) is cancelled. The notice is in the Federal Register of Friday, July 5, 2019, in FR Doc. 2019-14341, on page 32120-32121.

FOR FURTHER INFORMATION CONTACT: Evelyn Bohor, (303) 866-1040, ebohor@usccr.gov.

Dated: July 18, 2019.
David Mussatt,
Supervisory Chief, Regional Programs Unit.

[FR Doc. 2019-15653 Filed 7-23-19; 8:45 am]

BILLING CODE P